DEPARTMENT OF ENERGY

Federal Energy Regulatory Commission

[Project Nos. 7518-015; 7518-016; 7518-018]

Erie Boulevard Hydropower, L.P., and St. Regis Mohawk Tribe; Notice of Teleconference To Discuss Options for Proceeding With Joint Application for Transfer of License and Application for Surrender of License and Decommissioning Project

a. Date and Time of Teleconference: May 7, 2014 at 1:00 p.m. Eastern Time.

b. FERC Contact: Patricia W. Gillis, 202-502-8735 or patricia.gillis@ferc.gov.

c. Purpose of teleconference: To discuss issues and options for proceeding with recent filings requesting transfer and surrender of the license for the Hogansburg Hydroelectric Project No. 7518, including the possibility of a non-power license for the project. The Hogansburg Project is located on the St. Regis River in Franklin County, New York.

d. Background and related filings: On September 30, 2013, Erie Boulevard Hydropower, L.P. (Erie) filed an application for a subsequent license for the Hogansburg Project. On November 19, 2013, the Commission issued a notice of application accepted for filing, soliciting motions to intervene and protests, ready for environmental analysis, and soliciting comments, recommendations, preliminary terms and conditions, and preliminary fishway prescriptions. On November 27, 2013, Erie and the Saint Regis Mohawk Tribe (Tribe) filed a joint application for transfer of the project license to the Tribe and a motion to suspend the ongoing relicensing proceeding. That same day, the Tribe (as a presumed transferee) filed an application for surrender of the license and decommissioning and removal of the dam. On December 30, 2013, Commission staff granted the request to suspend the relicensing proceeding pending a determination on the license transfer and surrender applications. The Commission has not yet accepted the transfer and surrender applications for filing or issued notices seeking public comment on them.

On March 7, 2014, the Tribe filed an offer of settlement in support of the joint application for transfer of the license to the Tribe and the Tribe's application for surrender of the license and decommissioning and removal of the dam. Parties to the settlement are the New York State Department of Environmental Conservation, U.S. Department of the Interior's Fish and Wildlife Service and Bureau of Indian Affairs, New York State Council of Trout Unlimited, and the Tribe. Erie is not a party to the settlement.

e. All local, state, and federal agencies, Indian tribes, and other interested entities are invited to participate in the conference by phone. If interested in participating, please contact Patricia Gillis at the above email address for information on the telephone number and access code for the conference call.

f. FERC conferences are accessible under section 508 of the Rehabilitation Act of 1973. For accessibility accommodations please send an email to accessibility@ferc.gov or call toll free (866) 208-3372 (voice) or (202) 502-8659 (TTY), or send a FAX to (202) 208-2106 with the required accommodations.

Dated: April 10, 2014.
Kimberly D. Bose,
Secretary.

[FR Doc. 2014-08668 Filed 4-16-14; 8:45 am]

BILLING CODE 6717-01-P